DEPARTMENT OF HEALTH AND HUMAN SERVICES

Centers for Disease Control and Prevention

[30Day-13-0215]

Agency Forms Undergoing Paperwork Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Application form and related forms for the operation of the National Death Index (NDI), (OMB No. 0920-0215, Expiration 11/30/13)—Extension—National Center for Health Statistics (NCHS), Centers for Disease Control and Prevention (CDC).

Background and Brief Description

The purpose of this request is to obtain OMB approval to extend the data collection for Application form and related forms for the operation of the National Death Index (NDI), OMB No. 0920-0215, expires 11/30/2013. Section 306 of the Public Health Service Act (42 U.S.C.), as amended, authorizes that the Secretary of Health and Human Services, acting through NCHS, shall collect statistics on the extent and nature of illness and disability of the population of the United States.

The NDI is a national data base containing identifying death record information submitted annually to NCHS by all the state vital statistics offices, beginning with deaths in 1979. This request is for approval of forms used to request searches against the NDI file to obtain the states and dates of death and the death certificate numbers of deceased study subjects. The NDI Application Form is provided to all investigators who express an interest in the NDI. The Application Form is completed and submitted only by those investigators who actually decide to apply for use of the NDI services. The Request for a Repeat NDI File Search is used by those NDI users who already have an approved application on file. This form is used by researchers when they have additional study subjects that need to be identified as deceased. The final form used is the User Data Transmittal Format. The researcher uses this from when transmitting their data file to the NDI staff.

Using the NDI Plus service, researchers have the option of also receiving cause of death information for deceased subjects, thus reducing the need to request copies of death certificates from the states. The NDI Plus option currently provides the International Classification of Disease (ICD) codes for the underlying and multiple causes of death for the years 1979-2010. Health researchers must complete administrative forms in order to apply for NDI services, and submit records of study subjects for computer matching against the NDI file. A three-year clearance is requested. There is no cost to respondents except for their time. The total estimated annual burden hours are 182.

Table 1—Estimated Annualized Burden Table
Type of respondent | Form type | Number of respondents | Number of responses/ respondent | Average burden/ response (in hours)
Health Researcher/Investigator | Application Form | 50 | 1 | 2.5
Health Researcher/Investigator | Repeat Request Form | 70 | 1 | 18/60
Health Researcher/Investigator | Data Transmittal Form | 120 | 1 | 18/60

LeRoy A. Richardson,
Chief, Information Collection Review Office, Office of Scientific Integrity, Office of the Associate Director for Science, Office of the Director, Center for Disease Control and Prevention.

[FR Doc. 2013-22038 Filed 9-10-13; 8:45 am]

BILLING CODE 4163-18-P